DEPARTMENT OF COMMERCE

Bureau of Industry and Security

RIN 0694-XC089

Request for Public Comments on Supply Chain Issues To Support the U.S.-EU Trade and Technology Council Secure Supply Chains Working Group

AGENCY: Bureau of Industry and Security, U.S. Department of Commerce.

ACTION: Extension of comment period.

SUMMARY: On April 6, 2022, the Bureau of Industry and Security (BIS) published the notice Request for Public Comments on Supply Chain Issues To Support the U.S.-EU Trade and Technology Council Secure Supply Chains Working Group. Today's notice extends the deadline for written comments to June 23, 2022. This extension is being made to allow for commenters to take into account any developments or announcements that may occur as a result of the United States-EU TTC second leaders' meeting scheduled for May 15-16, 2022 in France.

DATES: The comment period for the notice published April 6, 2022 at 87 FR 19854, is extended until June 23, 2022.

ADDRESSES: Submissions: You may submit comments, identified by docket number BIS-2021-0046 or RIN 0694-XC089, through the Federal eRulemaking Portal: https://www.regulations.gov. To submit comments via https://www.regulations.gov, enter the docket number BIS-2021-0046 on the home page and click “Search.” The site will provide a search results page listing all documents associated with this docket. Find a reference to this notice and click the button entitled “Comment.” For further information on using https://www.regulations.gov, please consult the resources provided on the website by clicking on “FAQ.” For further information regarding required comment formatting, please see the Solicited Written Comments and Requirements for Written Comments sections in the April 6 notice.

FOR FURTHER INFORMATION CONTACT: Kevin Coyne, U.S.-EU Trade and Technology Council Secure Supply Chains Working Group, Bureau of Industry and Security, at 202-482-4933, ttc_secure_supply_chains@doc.gov.

SUPPLEMENTARY INFORMATION:

Background

On April 6, 2022, the Bureau of Industry and Security (BIS) published the notice Request for Public Comments on Supply Chain Issues To Support the U.S.-EU Trade and Technology Council Secure Supply Chains Working Group. (87 FR 19854). The April 6 notice specified that BIS requests public comments regarding how to advance supply chain resilience and security in key sectors: Semiconductors; solar photovoltaics; ¹ critical minerals and materials including rare earth magnets,² lithium-ion batteries,³ and material inputs to semiconductors; ⁴ and pharmaceuticals ⁵ to inform the work of the United States-European Union (EU) Trade and Technology Council (TTC) Secure Supply Chains Working Group. The Working Group is tasked with increasing transparency of supply and demand, mapping respective existing sectoral capabilities, exchanging information on policy measures and research and development priorities, and cooperating on strategies to promote supply chain resilience, security and diversification.

¹ Solar photovoltaics include materials and production tools for the manufacturing of solar components.

² Critical minerals include neodymium and dysprosium.

³ Critical minerals include lithium, cobalt, class 1 nickel, manganese, and graphite.

⁴ Critical minerals include gallium and germanium.

⁵ Drug and Biologic Essential Medicines, Medical Countermeasures, and Critical Inputs.

Extension of Comment Period Deadline

The April 6 notice included a comment period deadline of May 23, 2022. The Department of Commerce has determined at this time that it is warranted to extend the comment period by one month to allow for commenters to take into account any developments or announcements that may occur as a result of the United States-EU TTC second leaders' meeting scheduled for May 15-16, 2022 in France. Today's notice specifies that comments may be submitted at any time but must be received by June 23, 2022, to be considered.

Solicited Written Comments

BIS welcomes public comments on how best to achieve the four primary tasks of the Secure Supply Chains Working Group described above. While BIS invites input from all interested parties, it is particularly interested in obtaining information from foreign and domestic entities that actively participate in semiconductors, solar photovoltaics, critical minerals and materials, and pharmaceuticals supply chains. Interested parties are invited to submit written comments, data, analyses, or information pertinent to this request to BIS no later than June 23, 2022. See the April 6 notice for additional details on the U.S.-EU TTC and the request for public comments.

Matthew S. Borman,
Deputy Assistant Secretary for Export Administration.

[FR Doc. 2022-10033 Filed 5-9-22; 8:45 am]

BILLING CODE 3510-33-P